DEPARTMENT OF HEALTH AND HUMAN SERVICES

Centers for Medicare & Medicaid Services

[CMS-1327-N]

Medicare Program; First Biannual Meeting of the Advisory Panel on Ambulatory Payment Classification Groups—March 7, 8, and 9, 2007

AGENCY: Centers for Medicare & Medicaid Services, Department of Health and Human Services.

ACTION: Notice.

SUMMARY: In accordance with section 10(a) of the Federal Advisory Committee Act (FACA) (5 U.S.C. Appendix 2), this notice announces the first biannual meeting of the Advisory Panel on Ambulatory Payment Classification (APC) Groups (the Panel) for 2007. The purpose of the Panel is to review the APC groups and their associated weights and to advise the Secretary of Health and Human Services (the Secretary) and the Administrator of the Centers for Medicare & Medicaid Services (CMS) (the Administrator) concerning the clinical integrity of the APC groups and their associated weights. CMS will consider the Panel's advice as we prepare the proposed and final rules that update the hospital Outpatient Prospective Payment System (OPPS) for CY 2008.

Meeting Dates: We are scheduling the first biannual meeting in 2007 for the following dates and times:

• Wednesday, March 7, 2007, 1 p.m. to 5 p.m. (e.s.t.)

• Thursday, March 8, 2007, 8 a.m. to 5 p.m. (e.s.t.)

• Friday, March 9, 2007, 8 a.m. to 12 noon (e.s.t.) ¹

¹ The times listed above are approximate times; consequently, the meetings may last longer than listed above, but will not begin before the posted times.

Note: We anticipate that there will be a meeting on Friday, March 9, 2007. However, if the business of the Panel concludes on Thursday, March 8, 2007, there will be no meeting on March 9, 2007.

Deadlines

Deadline for Hardcopy Comments/Suggested Agenda Topics—5 p.m. (e.s.t.), Wednesday, February 7, 2007

Deadline for Hardcopy Presentations—5 p.m. (e.s.t.), Wednesday, February 7, 2007

Deadline for Attendance Registration—5 p.m. (e.s.t.), Wednesday, February 28, 2007

Deadline for Special Accommodations—5 p.m. (e.s.t.), Wednesday, February 28, 2007

Submission of Materials to the Designated Federal Officer (DFO)

Because of staffing and resource limitations, we cannot accept written comments and presentations by FAX, nor can we print written comments and presentations received electronically for dissemination at the meeting.

Only hardcopy comments and presentations can be reproduced for public dissemination. All hardcopy presentations must be accompanied by Form CMS-20017. The form is now available through the CMS Forms Web site. The URL for linking to this form is as follows: http://www.cms.hhs.gov/cmsforms/downloads/cms20017.pdf.

We are also requiring electronic versions of the written comments and presentations (in addition to the hardcopies), so we can send them electronically to the Panel members for their review before the meeting.

Consequently, you must send BOTH electronic and hardcopy versions of your presentations and written comments by the prescribed deadlines. (Send electronic transmissions to the e-mail address below. Mail (or send by courier) hardcopies, accompanied by Form CMS-20017, to the DFO, as specified in the FOR FURTHER INFORMATION CONTACTS section of this notice.)

ADDRESSES: The meeting will be held in the Auditorium, 1st Floor, CMS Central Office, 7500 Security Boulevard, Baltimore, Maryland 21244-1850.

FOR FURTHER INFORMATION CONTACT: • For further information, contact: Shirl Ackerman-Ross, DFO, CMS, CMM, HAPG, DOC, 7500 Security Boulevard, Mail Stop C4-05-17, Baltimore, MD 21244-1850. Phone: (410) 786-4474*.

*Note: Please advise couriers of the following: When delivering hardcopies of presentations to CMS, if no one answers at the above phone number, please call (410) 786-4532.

• E-mail address for comments, presentations, and registration requests is CMS_APCPanel@cms.hhs.gov.

• News media representatives must contact our Public Affairs Office at (202) 690-6145.

Advisory Committees' Information Lines

The phone numbers for the CMS Federal Advisory Committee Hotline are 1-877-449-5659 (toll free) and (410) 786-9379 (local).

Web Sites

Please search the CMS Web site at http://www.cms.hhs.gov/FACA/05_AdvisoryPanelonAmbulatoryPaymentClassificationGroups.asp#TopOfPage in order to obtain the following:

• Additional information on the APC meeting agenda topics,

• Updates to the Panel's activities,

• Copies of the current Charter, and

• Membership requirements.

SUPPLEMENTARY INFORMATION:

I. Background

The Secretary is required by section 1833(t)(9)(A) of the Act, as amended and redesignated by sections 201(h) and 202(a)(2) of the Medicare, Medicaid, and SCHIP Balanced Budget Refinement Act of 1999 (BBRA) (Pub. L. 106-113), respectively, to establish and consult with an expert, outside advisory panel on APC groups. The APC Panel meets up to three times annually to review the APC groups and to provide technical advice to the Secretary and the Administrator concerning the clinical integrity of the groups and their associated weights. All Panel members must have technical expertise that enables them to participate fully in the work of the Panel. The expertise encompasses hospital payment systems, hospital medical-care delivery systems, outpatient payment requirements, APCs, Current Procedural Terminology (CPT) codes, and the use and payment of drugs and medical devices in the outpatient setting, as well as other forms of relevant expertise. Details regarding membership requirements for the APC Panel can be found on the CMS Web site as listed above.

The Panel presently consists of the following members:

• E.L. Hambrick, M.D., J.D., Chair.

• Marilyn Bedell, M.S., R.N., O.C.N.

• Gloryanne Bryant, B.S., R.H.I.A., R.H.I.T., C.C.S.

• Albert Brooks Einstein, Jr., M.D., F.A.C.P.

• Hazel Kimmel, R.N., C.C.S.

• Sandra J. Metzler, M.B.A., R.H.I.A., C.P.H.Q.

• Thomas M. Munger, M.D., F.A.C.C.

• Frank G. Opelka, M.D., F.A.C.S.

• Louis Potters, M.D., F.A.C.R.

• James V. Rawson, M.D.

• Lou Ann Schraffenberger, M.B.A., R.H.I.A., C.C.S.-P.

• Judie S. Snipes, R.N., M.B.A., F.A.C.H.E.

• Timothy Gene Tyler, Pharm.D.

• Kim Allan Williams, M.D., F.A.C.C., F.A.B.C.

• Robert Matthew Zwolak, M.D., Ph.D., F.A.C.S.

II. Agenda

The agenda for the March 2007 meeting will provide for discussion and comment on the following topics as designated in the Panel's Charter:

• Reconfiguring APCs (for example, splitting of APCs, moving Healthcare Common Procedure Coding System [HCPCS] codes from one APC to another and moving HCPCS codes from new technology APCs to clinical APCs).

• Evaluating APC weights.

• Packaging device and drug costs into APCs: methodology, effect on APCs, and need for reconfiguring APCs based upon device and drug packaging.

• Removing procedures from the inpatient list for payment under the OPPS.

• Using single and multiple procedure claims data.

• Addressing other APC structure technical issues.

The subject matter before the Panel shall be limited to these and related topics. Issues related to calculation of the OPPS conversion factor, charge compression, pass-through payments, or wage adjustments are not related to the subject matter that the Panel reviews.

The Panel may use data collected or developed by entities and organizations, other than DHHS and CMS, in conducting its review. Organizations are urged to submit data to CMS for review.

III. Written Comments and Suggested Agenda Topics

Send hardcopy written comments and suggested agenda topics to the DFO at the address indicated above. The DFO must receive these items by 5 p.m. (e.s.t.), Wednesday, February 7, 2007.

The written comments and suggested agenda topics for the March 2007 APC Panel meeting must fall within the subject categories outlined in the Panel's Charter and as listed in the Agenda section of this notice.

IV. Oral Presentations

Individuals or organizations wishing to make 5-minute oral presentations must submit hardcopies of their presentations to the DFO by 5 p.m. (e.s.t.), Wednesday, February 7, 2007, for consideration.

The number of oral presentations may be limited by the time available. Oral presentations should not exceed 5 minutes in length for an individual or organization.

The Chair may further limit time allowed for presentations due to the number of oral presentations, if necessary.

V. Presenter and Presentation Information

All presenters must submit Form CMS-20017. Hardcopies are required for oral presentations; however, electronic submissions of Form CMS-20017 are optional. The DFO must receive the following information from those wishing to make oral presentations:

• Form CMS-20017 completed with all pertinent information identified on the first page of the presentation.

• One hardcopy of presentation.

• Electronic copy of presentation.

• Personal registration information as described in the Meeting Attendance section below.

(Those persons wishing to submit comments only must send hard-copy and electronic versions of their comments, but they are not required to submit Form CMS-20017.)

VI. Oral Comments

In addition to formal oral presentations, there will be opportunity during the meeting for public oral comments, which will be limited to 1 minute for each individual and a total of 3 minutes per organization.

VII. Meeting Attendance

The meeting is open to the public; however, attendance is limited to space available. Attendance will be determined on a first-come, first-served basis.

Persons wishing to attend this meeting, which is located on Federal property, must e-mail the Panel DFO to register in advance no later than 5 p.m. (e.s.t.), Wednesday, February 28, 2007. A confirmation will be sent to the requester(s) via return e-mail.

The following personal information must be e-mailed or telephoned to the DFO by the date and time above:

• Name(s) of attendee(s),

• Title(s),

• Organization,

• E-mail address(es), and

• Telephone number(s).

VIII. Security, Building, and Parking Guidelines

Persons attending the meeting must present photographic identification to the Federal Protective Service or Guard Service personnel before they will be allowed to enter the building.

Security measures will include inspection of vehicles, inside and out, at the entrance to the grounds. In addition, all persons entering the building must pass through a metal detector. All items brought to CMS, including personal items such as desktops, cell phones, palm pilots, etc., are subject to physical inspection.

Individuals who are not registered in advance will not be permitted to enter the building and will be unable to attend the meeting.

Note: Presenters must register for the meeting. The public may enter the building 30 to 45 minutes before the meeting convenes each day.

All visitors must be escorted in areas other than the lower and first-floor levels in the Central Building.

Parking permits and instructions are issued upon arrival by the guards at the main entrance.

IX. Special Accommodations

Individuals requiring sign-language interpretation or other special accommodations must send a request for these services to the DFO by 5 p.m. (e.s.t.), Wednesday, February 28, 2007.

Authority: Section 1833(t)(9) of the Act (42 U.S.C. 1395l(t)). The Panel is governed by the provisions of Pub. L. 92-463, as amended (54 U.S.C. Appendix 2).

(Catalog of Federal Domestic Assistance Program No. 93.773, Medicare-Hospital Insurance; and Program No. 93.774, Medicare-Supplementary Medical Insurance Program).
Dated: December 7, 2006.
Leslie V. Norwalk,
Acting Administrator, Centers for Medicare & Medicaid Services.

[FR Doc. E6-21736 Filed 12-21-06; 8:45 am]

BILLING CODE 4120-01-P